DEPARTMENT OF HEALTH AND HUMAN SERVICES

National Institutes of Health

Request for Information (RFI): Proposed Policy for Sharing of Data Obtained in NIH Supported or Conducted Genome-Wide Association Studies (GWAS); Comment Period Extension; Notice

The National Institutes of Health (NIH) published a notice in the Federal Register, August 30, 2006, 71 FR 51629-51631, soliciting comments regarding a proposed policy for NIH supported or conducted Genome-Wide Association Studies (GWAS). A genome-wide association study is defined as any study of genetic variation across the entire human genome that is designed to identify genetic associations with observable traits (such as blood pressure or weight), or the presence of absence of disease or condition. The proposed policy would address (1) data sharing procedures, (2) data access principles, (3) intellectual property, and (4) issues regarding the protection of research participants through all phases of GWAS.

In the previous notice, NIH announced that responses must be received by October 31, 2006, in order for NIH to consider the comments when developing new policies. The NIH has decided to extend the comment period to November 30, 2006.

Persons, groups, and organizations interested in commenting on NIH's proposed policy should direct their comments to the following NIH Web site: http://grants.nih.gov/grants/guide/rfi_files/NOT-OD-06-094_rfi_add.htm. As an alternative, comments may be submitted by e-mail to GWAS@nih.gov or sent by mail to the following address: NIH GWAS RFI Comments, National Institutes of Health, Office of Extramural Research, 6705 Rockledge Drive, Room 350, Bethesda, MD 20892-7963.

Dated: October 30, 2006.
Norka Ruiz-Bravo,
Deputy Director for Extramural Research, National Institutes of Health.

[FR Doc. E6-18544 Filed 11-2-06; 8:45 am]

BILLING CODE 4167-01-P